DEPARTMENT OF COMMERCE

National Oceanic and Atmospheric Administration

Agency Information Collection Activities; Submission to the Office of Management and Budget (OMB) for Review and Approval; Comment Request; Gulf of Alaska Catcher Vessel and Processor Trawl (CVPT) Economic Data Report (EDR)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 23, 2020 (85 FR 44523), during a 60-day comment period. This notice allows for an additional 30 days for public comments.

Agency: National Oceanic and Atmospheric Administration (NOAA).

Title: Gulf of Alaska Catcher Vessel and Processor Trawl (CVPT) Economic Data Report (EDR).

OMB Control Number: 0648-0700.

Form Number(s): None.

Type of Request: Regular submission (extension of a current information collection).

Number of Respondents: 117.

Average Hours per Response: Annual Trawl Catcher Vessel EDR, 15 hours; Annual Shoreside Processor EDR, 15 hours.

Total Annual Burden Hours: 1,755 hours.

Needs and Uses: The National Marine Fisheries Services (NMFS), Alaska Regional Office, is requesting extension of the currently approved information collection for the Annual Trawl Catcher Vessel Economic Data Report (EDR) and the Annual Shoreside Processor EDR.

The EDRs collect economic data on the information for the Gulf of Alaska Trawl Groundfish Economic Data Report Program (GOA Trawl EDR Program). The Gulf of Alaska Trawl Groundfish Economic Data Report Program evaluates the economic effects of current and future groundfish management measures for Gulf of Alaska (GOA) trawl fisheries. This program provides NMFS and the North Pacific Fishery Management Council with baseline information on affected harvesters, crew, processors, and communities in the GOA. Data collected through the EDRs include labor information, revenues received, capital and operational expenses, and other operational or financial data. NMFS and the Council use this information to assess the impacts of major changes in the groundfish management regime, including catch share program implementation.

The Trawl Catcher Vessel EDR is submitted annually by owners or leaseholders of catcher vessels that harvest groundfish using trawl gear from the GOA or parallel fisheries. This EDR focuses on vessel identifiers, employment data, and variable cost data (associated with fuel usage and gear purchases). The Shoreside Processor EDR is submitted annually by owners or leaseholders of shoreside processors or stationary floating processors that receive deliveries from vessels that harvest groundfish using trawl gear from the GOA or parallel fisheries. This EDR focuses on employment and labor costs and for processors located in Kodiak, utility consumption and cost.

Requirements for the EDRS are located at 50 CFR 679.110.

Affected Public: Individuals or households; Business or other for-profit organizations; Not-for-profit institutions.

Frequency: Annually.

Respondent's Obligation: Mandatory.

Legal Authority: Magnuson-Stevens Fishery Conservation and Management Act (16 U.S.C. 1801 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0700.

Sheleen Dumas,
Department PRA Clearance Officer, Office of the Chief Information Officer, Commerce Department.

[FR Doc. 2020-25040 Filed 11-10-20; 8:45 am]

BILLING CODE 3510-22-P